SMALL BUSINESS ADMINISTRATION

[Declaration of Disaster # 3395]

State of New York

Erie County and the contiguous counties of Cattaraugus, Chautauqua, Genesee, Niagara and Wyoming in the State of New York constitute a disaster area as a result of a record-breaking lake effect snowstorm that occurred from December 24 through December 29, 2001. Applications for loans for physical damage may be filed until the close of business on April 16, 2002 and for economic injury until the close of business on November 15, 2002 at the address listed below or other locally announced locations:

U.S. Small Business Administration, Disaster Area 1 Office, 360 Rainbow Blvd., South 3rd Floor, Niagara Falls, NY 14303.

The interest rates are:

| Percent
For Physical Damage:
Homeowners With Credit Available Elsewhere | 6.500
Homeowners Without Credit Available Elsewhere | 3.250
Businesses With Credit Available Elsewhere | 8.000
Businesses and Non-Profit Organizations Without Credit Available Elsewhere | 4.000
Others (Including Non-Profit Organizations) With Credit Available Elsewhere | 6.375
For Economic Injury
Businesses and Small Agricultural Cooperatives Without Credit Available Elsewhere | 4.000

The number assigned to this disaster for physical damage is 339511 and for economic injury the number is 905600.

(Catalog of Federal Domestic Assistance Program Nos. 59002 and 59008)

Dated: February 15, 2002.
Hector V. Barreto,
Administrator.

[FR Doc. 02-4505 Filed 2-25-02; 8:45 am]

BILLING CODE 8025-01-P